NATIONAL AERONAUTICS AND SPACE ADMINISTRATION

[Notice 23-033]

Name of Information Collection: NASA Earth Observing System Data and Information System 2023 Customer Satisfaction Questionnaire

AGENCY: National Aeronautics and Space Administration (NASA).

ACTION: Notice of information collection.

SUMMARY: The National Aeronautics and Space Administration, as part of its continuing effort to reduce paperwork and respondent burden, invites the public and other Federal agencies to take this opportunity to comment on proposed and/or continuing information collections.

DATES: Comments are due by June 20, 2023.

ADDRESSES: Written comments and recommendations for this information collection should be sent within 60 days of publication of this notice to www.reginfo.gov/public/do/PRAMain. Find this information collection by selecting “Currently under 60-day Review-Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-3292, or b.edwards-bodmer@nasa.gov.

SUPPLEMENTARY INFORMATION:

I. Abstract

The ESODIS customer satisfaction survey is performed each year (2023 is the 20th collection) under the auspices of NASA HQ as one of their metrics reported to OMB as a part of the Reduction of Paperwork Act. In this survey, the public users of the EOSDIS system (through the 12 Distributed Active Archive Centers—DAACs) are encouraged to answer specific questions that aid NASA discern the overall user satisfaction of its Earth data system. NASA through DOI/FCG contracts the management of this survey to a private survey entity (CFI) so that the respondents are assured the survey and its results are collected in an unbiased manner. The survey has two portions, a general section of questions to understand aspects of the data system the user has engaged with, and a second section that is created by each of the 12 DAACs so that these centers can address specific types of questions for that science domain community.

II. Methods of Collection

The collection of data from our respondents to wholly performed using an on-line, internet-based system that is developed and hosted by CFI.

III. Data

Title: The Annual EOSDIS Customer Satisfaction (ACSI) User Survey.

OMB Number: 2700-xxxx.

Type of review: New.

Affected Public: Individuals.

Estimated Annual Number of Activities: 10,000.

Estimated Number of Respondents per Activity: 1.

Annual Responses: 10,000.

Estimated Time per Response: 15 minutes.

Estimated Total Annual Burden Hours: 2,500.

Estimated Total Annual Cost: $118,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-08166 Filed 4-17-23; 8:45 am]

BILLING CODE 7510-13-P